DEPARTMENT OF HEALTH AND HUMAN SERVICES

National Institutes of Health

Notice of Meeting: Secretary's Advisory Committee on Genetics, Health, and Society

Pursuant to Public Law 92-463, notice is hereby given of the eleventh meeting of the Secretary's Advisory Committee on Genetics, Health, and Society (SACGHS), U.S. Public Health Service. The meeting will be held from 8:30 a.m. to approximately 5 p.m. on Monday, November 13, 2006 and 8:30 a.m. to approximately 5 p.m. on Tuesday, November 14, 2006, at the Marriott Inn and Conference Center, University of Maryland-College Park, 3501 University Boulevard East, Adelphi, MD 20783. The meeting will be open to the public with attendance limited to space available. The meeting also will be Web cast.

The agenda topics include: Consideration of public comments on and finalization of the Committee's draft report, Policy Issues Associated With Undertaking a Large U.S. Population Cohort Project on Genes, Environment and Disease; a review of the Committee's draft report on pharmacogenomics; a session related to the impact of gene patents and licensing practices on patient access to genetic and genomic technologies; and updates on developments at FDA and CMS regarding the oversight of genetic tests and services and on other Federal activities relevant to the work and charter of SACGHS.

Time will be provided each day for public comments. The Committee would welcome hearing from anyone wishing to provide public comment on any issue related to genetics, health and society. Individuals who would like to provide public comment should notify the SACGHS Executive Secretary, Ms. Sarah Carr, by telephone at 301-496-9838 or e-mail at sc112c@nih.gov. The SACGHS office is located at 6705 Rockledge Drive, Suite 750, Bethesda, MD 20892. Anyone planning to attend the meeting, who is in need of special assistance, such as sign language interpretation or other reasonable accommodations, is also asked to contact the Executive Secretary.

Under authority of 42 U.S.C. 217a, Section 222 of the Public Health Service Act, as amended, the Department of Health and Human Services established SACGHS to serve as a public forum for deliberations on the broad range of human health and societal issues raised by the development and use of genetic and genomic technologies and, as warranted, to provide advice on these issues. The draft meeting agenda and other information about SACGHS, including information about access to the Web cast, will be available at the following Web site: http://www4.od.nih.gov/oba/sacghs.htm.

Dated: September 26, 2006.
Anna Snouffer,
Acting Director, NIH Office of Federal Advisory Committee Policy.

[FR Doc. 06-8443 Filed 10-2-06; 8:45 am]

BILLING CODE 4140-01-M